DEPARTMENT OF THE INTERIOR

National Park Service

[NPS-WASO-NAGPRA-NPS0040183; PPWOCRADN0-PCU00RP14.R50000]

Notice of Inventory Completion: Sam Noble Oklahoma Museum of Natural History, University of Oklahoma, Norman, OK

AGENCY: National Park Service, Interior.

ACTION: Notice.

SUMMARY: In accordance with the Native American Graves Protection and Repatriation Act (NAGPRA), the Sam Noble Oklahoma Museum of Natural History (SNOMNH) has completed an inventory of human remains and associated funerary objects and has determined that there is a cultural affiliation between the human remains and associated funerary objects and Indian Tribes or Native Hawaiian organizations in this notice.

DATES: Repatriation of the human remains and associated funerary objects in this notice may occur on or after July 3, 2025.

FOR FURTHER INFORMATION CONTACT: Zachary Garrett, NAGPRA Program Coordinator, Sam Noble Oklahoma Museum of Natural History, University of Oklahoma, telephone (405) 325-1994, email zacgarrett@ou.edu. Individuals who are deaf, deafblind, hard of hearing, or have a speech disability may dial 711 (TTY, TDD, or TeleBraille) to access telecommunications relay services. Individuals outside the United States should use the relay services offered within their country to make international calls to the point-of-contact in the United States.

SUPPLEMENTARY INFORMATION: This notice is published as part of the National Park Service's administrative responsibilities under NAGPRA. The determinations in this notice are the sole responsibility of the SNOMNH, and additional information on the determinations in this notice, including the results of consultation, can be found in the inventory or related records. The National Park Service is not responsible for the determinations in this notice.

Abstract of Information Available

Based on the information available, eight associated funerary objects were removed from the Brackett site (34Ck43) in Cherokee County, OK, in 1939. The eight associated funerary objects are five complete vessels, one bag of potsherds, one stone knife fragment, and one mussel shell fragment. This list of objects is an addition to the group of associated funerary objects previously identified in a Notice of Inventory Completion published in the Federal Register on April 1, 2019 (84 FR 12274-12277).

Based on the information available, 47 associated funerary objects were removed from the Reed 4 site (34Dl4) in Delaware County, OK, in 1937. The 47 associated funerary objects are five ceramic vessels, five bags of potsherds, one ceramic pipe fragment, one ceramic bead, one bag with a sample of scrapings from the inside of a vessel, one projectile point, one stone pipe, two stone celts, four stone earspools, one stone abrader, one perforated stone, one pebble, two paintstones, two worked stones, one bag of shell beads, two copper bodkins, four decorated copper sheet fragments, 11 copper ornaments, and one copper tube. This list of objects is an addition to the group of associated funerary objects previously identified in a Notice of Inventory Completion published in the Federal Register on October 17, 2018 (83 FR 52522-52525).

Human remains representing, at least, three individuals have been identified. The five associated funerary objects are two projectile points, one bag of shell beads, one bone awl, and one bone hair pin. These human remains and associated funerary objects were removed from the Henry Heflin 1 site (34Lf14) in LeFlore County, OK in 1941. The human remains include two probable female adults and one probable male adult. This list of human remains and associated funerary objects are additions to the group of human remains and associated funerary objects previously identified in a Notice of Inventory Completion published in the Federal Register in a Notice of Inventory Completion on July 1, 2024 (89 FR 54499-54501).

Based on the information available, 11 associated funerary objects were removed from the Hooks site (34Lf19) in LeFlore County, OK in 1941. The 11 associated funerary objects are three bags of potsherds, five projectile points, two stone knives, and one stone ax. This list of objects is an addition to the group of associated funerary objects previously identified in a Notice of Inventory Completion published in the Federal Register on December 19, 2023 (88 FR 87803-87804).

Based on the information available, 20 associated funerary objects were removed from the Copeland site (34Lf20) in LeFlore County, OK in 1941. The 20 associated funerary objects are one ceramic vessel (in fragments), two bags of potsherds, three projectile points, four stone beads, one stone celt, one mano, one stone gorget, one piece of galena, one stone fossil, two paintstones, two bone awls, and one shell hoe. This list of objects is an addition to the group of associated funerary objects previously identified in a Notice of Inventory Completion published in the Federal Register on July 1, 2024 (89 FR 54499-54501).

Based on the information available, 10 associated funerary objects were removed from the Smith site (34Lf22) in LeFlore County, OK in 1940-1941. The 10 associated funerary objects include two stone celts, one projectile point, one boatstone, three worked antlers, two bone hair pins, and one bone awl. This list of objects is an addition to the group of associated funerary objects previously identified in a Notice of Inventory Completion published in the Federal Register on July 1, 2024 (89 FR 54499-54501).

Based on the information available, 65 associated funerary objects were removed from the Moore site (34Lf31) in LeFlore County, OK in 1938-1939 and 1969. The 65 associated funerary objects are 16 complete ceramic vessels, two vessels (in fragments), four bags of potsherds, 29 projectile points, one paintstone, one unidentified worked stone, three groundstone fragments, three bags of stone flakes, one partial squirrel skeleton, one bone awl fragment, one bag of animal bone fragments, one bag of shell beads, one shell hoe fragment, and one bag of shell fragments. This list of objects is an addition to the group of associated funerary objects previously identified in a Notice of Inventory Completion published in the Federal Register on December 19, 2023 (88 FR 87803-87804).

Based on the information available, six associated funerary objects were removed from the Hughes site (34Ms4) in Muskogee County, OK in 1938. The six associated funerary objects are one reconstructed vessel, four bags of potsherds, and one reconstructed tortoise shell. This list of objects is an addition to the group of associated funerary objects previously identified in a Notice of Inventory Completion published in the Federal Register on October 17, 2018 (83 FR 52522-52525).

Based on the information available, three associated funerary objects were removed from the Nagle site (34Ok4) in Oklahoma County, OK in 1956-1957. The three associated funerary objects are one ceramic pipe or effigy burner bowl, one polished stone, and one paintstone. This list of objects is an addition to the group of associated funerary objects previously identified in a Notice of Inventory Completion published in the Federal Register on April 1, 2019 (84 FR 12274-12277).

Based on the information available, 99 associated funerary objects were removed from the Norman Mound site (34Wg2) between 1933 and 1948. The 99 associated funerary objects are six ceramic vessels, one ceramic vessel with human effigy, 12 bags of potsherds, 54 projectile points, 22 stone earspools, two bags of pigment, one bag of charcoal, and one bag of turtle shell fragments. This list of objects is an addition to the group of associated funerary objects previously identified in a Notice of Inventory Completion published in the Federal Register on December 9, 2019 (84 FR 67294-67295).

Cultural Affiliation

Based on the information available and the results of consultation, cultural affiliation is clearly identified by the information available about the human remains and associated funerary objects described in this notice.

Determinations

The SNOMNH has determined that:

• The human remains described in this notice represent the physical remains of three individuals of Native American ancestry.

• The 274 objects described in this notice are reasonably believed to have been placed intentionally with or near individual human remains at the time of death or later as part of the death rite or ceremony.

• There is a connection between the human remains and associated funerary objects described in this notice and the Caddo Nation of Oklahoma and the Wichita and Affiliated Tribes (Wichita, Keechi, Waco, & Tawakonie), Oklahoma.

Requests for Repatriation

Written requests for repatriation of the human remains and associated funerary objects in this notice must be sent to the authorized representative identified in this notice under FOR FURTHER INFORMATION CONTACT. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 3, 2025. If competing requests for repatriation are received, the SNOMNH must determine the most appropriate requestor prior to repatriation. Requests for joint repatriation of the human remains and associated funerary objects are considered a single request and not competing requests. The SNOMNH is responsible for sending a copy of this notice to the Indian Tribes and Native Hawaiian organizations identified in this notice and any other consulting parties.

Authority: Native American Graves Protection and Repatriation Act, 25 U.S.C. 3003, and the implementing regulations, 43 CFR 10.10.

Dated: May 13, 2025.
Melanie O'Brien,
Manager, National NAGPRA Program.

[FR Doc. 2025-10028 Filed 6-2-25; 8:45 am]

BILLING CODE 4312-52-P